DEPARTMENT OF COMMERCE

International Trade Administration

[A-570-831]

Notice of Extension of Time Limit for Final Results of Antidumping Duty Administrative Review: Certain Malleable Iron Pipe Fittings from the People's Republic of China

AGENCY: Import Administration, International Trade Administration, Department of Commerce.

EFFECTIVE DATE: April 6, 2006.

FOR FURTHER INFORMATION CONTACT: Sochieta Moth, AD/CVD Operations, Office 8, Import Administration, International Trade Administration, U.S. Department of Commerce, 14th Street and Constitution Avenue, NW, Washington, DC 20230; telephone; (202) 482-0168.

SUPPLEMENTARY INFORMATION:

Background

On December 23, 2005, the Department of Commerce (“The Department”) published the preliminary results of the administrative review of the antidumping duty order on malleable iron pipe fittings from the People's Republic of China covering the period December 2, 2003, through November 30, 2004. See Certain Malleable Iron Pipe Fittings From the People's Republic of China: Notice of Preliminary Results of Antidumping Duty Administrative Review, 70 FR 76234 (December 23, 2005) (“Preliminary Results”). The final results of review are currently due no later than April 22, 2006.

Extension of Time Limits for Final Results

Pursuant to section 751(a)(3)(A) of the Tariff Act of 1930, as amended (“the Act”), and section 351.213(h)(1) of the Department's regulations, the Department shall issue the preliminary results of an administrative review within 245 days after the last day of the anniversary month of the date of publication of the antidumping duty order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days. We find that it is not practicable to complete the final results in this administrative review by April 22, 2006, because additional time is needed to analyze a significant amount of information submitted in response to supplemental questionnaires that were issued subsequent to the Preliminary Results. Therefore, the Department is extending the time limit for the completion of these final results by 60 days until no later than Wednesday, June 21, 2006, which is 180 days from the date on which the notice of the Preliminary Results was published.

Briefing and Hearing Request Schedule

In the Preliminary Results, the Department stated that it would notify all parties of the briefing and hearing request schedule at a later date. Any interested party may submit case briefs and/or written comments, and request a hearing, within 20 days of the date of publication of this notice. The deadline for interested parties to submit rebuttal briefs and rebuttals to written comments, limited to issues raised in such briefs or comments, is 27 days after the publication of this notice of extension. A hearing, if requested, will be held at the main Commerce Department building at a time and location to be determined.

Issues raised in hearings will be limited to those raised in the respective case and rebuttal briefs. Parties who submit case or rebuttal briefs in these proceedings are requested to submit with each argument (1) a statement of the issue, and (2) a brief summary of the argument with an electronic version included.

This notice is issued and published in accordance with section 751(a)(3)(A) and 777(i) of the Act.

Dated: March 30, 2006.
Stephen J. Claeys,
Deputy Assistant Secretary for Import Administration.

[FR Doc. E6-5030 Filed 4-5-06; 8:45 am]

BILLING CODE 3510-DS-S